DEPARTMENT OF TRANSPORTATION

Federal Aviation Administration

NextGen Advisory Committee

AGENCY: Federal Aviation Administration, Department of Transportation.

ACTION: Notice of NextGen Advisory Committee (NAC) renewal.

SUMMARY: The FAA is issuing this notice to advise the public of the renewal of the NAC for 2 years. The Secretary of Transportation established the NAC under agency authority in accordance with the provisions of the Federal Advisory Committee Act (FACA), as amended, Public Law 92-463, 5 U.S.C. App. 2. The Secretary determined the NAC is necessary and is in the public interest. The nature and purpose of the NAC is to seek resolution of issues and challenges involving concepts, requirements, operational capabilities, the associated use of technology, and related considerations to aeronautical operations that affect the future of the Air Traffic Management System and the integration of new technologies.

FOR FURTHER INFORMATION CONTACT: Gregory Schwab, Manager, Stakeholder Collaboration Division, at Gregory.schwab@faa.gov or 202-267-1201. Any committee related request should be sent to the person listed in this section.

SUPPLEMENTARY INFORMATION: Pursuant to Section 10(a)(2) of the Federal Advisory Committee Act, FAA is giving notice of the renewal of the NAC charter. The primary goal of the NAC is to provide advice on agency-level issues facing the aviation community in implementing the Next Generation Air Transportation System (NextGen) modernization efforts across the National Airspace System. NAC membership is structured to maintain a deliberately derived distribution of the aviation community representation in order for FAA to align its investments. Complete information regarding the NAC is available on the FAA website at https://www.faa.gov/about/office_org/headquarters_offices/ang/nac/.

Issued in Washington, DC, this 15 day of June 2020.
Tiffany McCoy,
General Engineer, NextGen Office of Collaboration and Messaging, ANG-M, Office of the Assistant Administrator for NextGen, Federal Aviation Administration.

[FR Doc. 2020-13599 Filed 6-23-20; 8:45 am]

BILLING CODE 4910-13-P